FEDERAL COMMUNICATIONS COMMISSION

47 CFR Part 73

[DA 02-1621; MB Docket No. 02-186; RM-10494]

Radio Broadcasting Services; Los Banos and Planada, CA

AGENCY: Federal Communications Commission.

ACTION: Proposed rule.

SUMMARY: This document requests comments on a petition for rulemaking filed on behalf of Buckley Communications, Inc., licensee of FM Station KHTN, Channel 284B, Los Banos, California, requesting the reallotment of Channel 284B to Planada, California, as that community's first local aural transmission service, and modification of its authorization accordingly. The petitioner's modification proposal complies with the provisions of Section 1.420(i) of the Commission's Rules and therefore, we will not accept competing expressions of interest in the use of Channel 284B at Planada, or require the petitioner to demonstrate the availability of an additional equivalent class channel. Coordinates used for Channel 284B at Planada are those of the petitioner's currently authorized transmitter site at 37-11-29 NL and 120-32-03 WL.

DATES: Comments must be filed on or before September 9, 2002, and reply comments on or before September 24, 2002.

ADDRESSES: Secretary, Federal Communications Commission, Washington, DC 20554. In addition to filing comments with the FCC, interested parties should serve the petitioner's counsel, as follows: Martin R. Leader, David D. Oxenford and Colette M. Capretz, Esqs., Law Offices of Shaw Pittman, 2300 N Street, NW., Washington, DC 20037-1128.

FOR FURTHER INFORMATION CONTACT: Nancy Joyner, Media Bureau, (202) 418-2180.

SUPPLEMENTARY INFORMATION: This is a synopsis of the Commission's Notice of Proposed Rule Making, MB Docket No. 02-186, adopted July 3, 2002, and released July 19, 2002. The full text of this Commission decision is available for inspection and copying during normal business hours in the FCC's Reference Information Center (Room CY-A257), 445 Twelfth Street, SW., Washington, DC. The complete text of this decision may also be purchased from the Commission's copy contractor, Qualtex International, Portals II, 445 12th Street, SW., Room CY-B402, Washington, DC 20554, telephone (202) 863-2893.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under California, is amended by removing Channel 284B at Los Banos, and by adding Planada, Channel 284B.

Federal Communications Commission.
John A. Karousos,
Assistant Chief, Audio Division, Media Bureau.

[FR Doc. 02-19744 Filed 8-5-02; 8:45 am]

BILLING CODE 6712-01-U